ENVIRONMENTAL PROTECTION AGENCY

[EPA-HQ-OAR-2007-0069; FRL-9269-2]

Agency Information Collection Activities; Submission to OMB for Review and Approval; Comment Request; The SunWise Program (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before March 24, 2011.

ADDRESSES: Submit your comments, referencing Docket ID No. EPA HQ-OAR-2007-0069, to: (1) EPA online using http://www.regulations.gov (our preferred method), by e-mail to a-and-r-docket@epa.gov, or by mail to: EPA Docket Center, Environmental Protection Agency, Air and Radiation Docket and Information Center, Mail Code 28221T, 1200 Pennsylvania Ave., NW., Washington, DC 20460 and (2) OMB by mail to: Office of Information and Regulatory Affairs, Office of Management and Budget, Attention: Desk Officer for EPA, 725 17th Street, NW., Washington, DC 20503.

FOR FURTHER INFORMATION CONTACT: Luke Hall-Jordan, Stratospheric Protection Division, Office of Air and Radiation, Mail Code 6205J, Environmental Protection Agency, 1200 Pennsylvania Ave., NW., Washington, DC 20460; telephone number: (202) 343-9591; fax number: (202) 343-2338; e-mail address: hall-jordan.luke@epa.gov.

SUPPLEMENTARY INFORMATION: EPA has submitted the following ICR to OMB for review and approval according to the procedures prescribed in 5 CFR 1320.12. On September 3, 2010 (75 FR 54143), EPA sought comments on this ICR pursuant to 5 CFR 1320.8(d). EPA received one comment. Since EPA coordinates with other federal and non-federal entities working to prevent skin cancer and other health effects from overexposure to the sun, and both Congress and EPA allocate funding for the program, no further justification for the comment is needed. Any additional comments on this ICR should be submitted to EPA and OMB within 30 days of this notice.

EPA has established a public docket for this ICR under Docket ID No. EPA-HQ-OAR-2007-0069, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: The SunWise Program (Renewal).

ICR numbers: EPA ICR No. 1904.06, OMB Control No. 2060-0439.

ICR Status: This ICR is scheduled to expire on 2/28/2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The goal of the SunWise School Program is to teach children and their caregivers how to protect themselves from overexposure to the sun. The SunWise Program recognizes the challenge of measuring the progress and evaluating the effectiveness of an environmental and public health education program where the ultimate goal is to reduce risk and improve public health. Therefore, the continual and careful evaluation of program effectiveness through a variety of means, including data from pre- and post-intervention surveys, tracking and monitoring of classroom activities and school policies, and consultation with experts, is necessary to monitor progress and refine the program. Surveys to be developed and administered include: (1) Teacher questionnaire for measuring their and their students' receptivity to the educational component of the Program; (2) Teacher individual interview component soliciting more information about the program and the development of a recognition and incentives program; (3) Don't Fry Day pledge asking educators to pledge to incorporate sun safety into their spring and summer activities; (4) Online interactive SunWise Sun Safety Certification Program enabling students, adults, organizations, and employers to develop credentials on sun safety awareness and behaviors; and (5) Partner pilot questionnaire for measuring their and their audience's receptivity to the educational component of the Program. The data will be analyzed and results will indicate the Program's effect on participants' sun-protection attitudes and behaviors, and will help guide the program's further improvement. Additionally, information is collected when educators sign up to receive a Tool Kit either on the Web or in person, and when individuals participate in an on-line sun safety tutorial/certification program. Responses to the collection of information are voluntary. All responses to the collection of information remain confidential, and where appropriate anonymous.

Burden Statement: The annual public reporting and recordkeeping burden for this collection of information is estimated to average less than one hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Elementary and middle school students, parents, and educators.

Estimated Number of Respondents: 8,960.

Frequency of Response: annual.

Estimated Total Annual Hour Burden: 1,615 hours.

Estimated Total Annual Cost: $100,172, which includes no annualized capital or O&M costs.

Changes in the Estimates: There is a decrease of 195 hours annually in the total estimated burden currently identified in the OMB Inventory of Approved ICR Burdens. More hours were added for teachers participating in an individual interview. Hours were subtracted for teachers administering the student survey. Hours were added for teachers participating in the Don't Fry Day pledge. Hours and burden for educators is about the same; hours for students has also decreased significantly. The bottom line burden hours increased along with the total cost.

Dated: February 14, 2011.
John Moses,
Director, Collection Strategies Division.

[FR Doc. 2011-3869 Filed 2-18-11; 8:45 am]

BILLING CODE 6560-50-P